DEPARTMENT OF DEFENSE

Department of the Army; Corps of Engineers

Intent To Prepare a Supplement (SEIS) to the 1992 Final Environmental Impact Statement on Modified Water Deliveries to Everglades National Park (Mod Waters Project) to Address a Change in Design of U.S. Highway 41 (Tamiami Trail) Originally Proposed Modifications

AGENCY: U.S. Army Corps of Engineers, Department of Defense.

ACTION: Notice of intent.

SUMMARY: The congressionally authorized Mod Waters project consists of structural modifications and additions to the existing C&SF Project required for improvement of water deliveries for ecosystem restoration in Everglades National Park. The authorized plan calls for only minor modification of Tamiami Trail by increasing the elevation of about 3,000 linear feet of the roadbed. The existing culvert system was thought adequate to pass the maximum desired volume of water. Additional analysis indicates that the existing culverts are not adequate to do so. Therefore additional water conveyance methods will be analyzed.

FOR FURTHER INFORMATION CONTACT: U.S. Army Corps of Engineers, P.O. Box 4970, Jacksonville, FL 32232; Attn: Mr. Elmar Kurzbach, 904-232-2325.

SUPPLEMENTARY INFORMATION: 1. Alternatives that will be evaluated include: addition of 4 new bridges, relocating the road (either to the north or south) with sufficient culverts and bridges, installation of an underground piping system, and installation of a new pump and “getaway” channel. The bridge and underground piping system alternatives would include alternative upgrades of the existing roadbed ranging from no upgrades, to raising approximately 10 miles of roadbed up to about 2 feet in elevation, or to an elevation of 12 feet NGVD.

2. A scoping letter and public Scoping Meeting will be used to invite comments on alternatives and issues from Federal, State, and local agencies, affected Indian tribes, and other interested private organizations and individuals.

3. The Draft EIS will analyze potential impacts to local businesses and residents, Everglades National Park, endangered species, wetlands, biological resources, water quality, and recreational fishing. Impact analysis will be limited to issues associated with the construction of the improvements, only. All general Mod Waters issues were addressed in the original Environmental Impact Statement.

4. The alternative plans will be reviewed under provisions of appropriate laws and regulations, including the Endangered Species Act, Fish and Wildlife Coordination Act, and Clean Water Act.

5. The Draft SEIS is expected to be available for public review during the 4th quarter of calendar year 2000.

John A. Hall,
Alternate Army Federal Register Liaison Officer.

[FR Doc. 00-11293 Filed 5-4-00; 8:45 am]

BILLING CODE 3710-AJ-M